SMALL BUSINESS ADMINISTRATION

[Declaration of Disaster #10005]

State of Texas; TX-00001

Guadalupe and Wharton Counties and the contiguous counties of Austin, Bexar, Brazoria, Caldwell, Colorado, Comal, Fort Bend, Gonzales, Hays, Jackson, Matagorda, and Wilson in the State of Texas constitute a disaster area as a result of damages caused by severe storms, excessive rain, and flooding that occurred November 19-27, 2004. Applications for loans for physical damage as a result of this disaster may be filed until the close of business on March 7, 2005 and for economic injury until the close of business on October 4, 2005 at the address listed below or other locally announced locations:

U.S. Small Business Administration, Disaster Area 1 Office, 360 Rainbow Blvd., South 3rd Floor, Niagara Falls, NY 14303.

The interest rates are:

| Percent
For Physical Damage:
Homeowners with Credit Available Elsewhere | 5.875
Homeowners without Credit Available Elsewhere | 2.937
Businesses with Credit Available Elsewhere | 5.800
Businesses and Non-Profit Organizations without Credit Available Elsewhere | 4.000
Others (Including Non-Profit Organizations) with Credit Available Elsewhere | 4.750
For Economic Injury:
Businesses and Small Agricultural Cooperatives without Credit Available Elsewhere | 4.000

The number assigned to this disaster for physical damage is 10005 and for economic damage is 10006.

(Catalog of Federal Domestic Assistance Program Nos. 59002 and 59008.)

Dated: January 4, 2005.
Hector V. Barreto,
Administrator.

[FR Doc. 05-413 Filed 1-7-05; 8:45 am]

BILLING CODE 8025-01-P